FEDERAL COMMUNICATIONS COMMISSION

[FR ID 127534]

Deletion of Item From February 16, 2023 Open Meeting

The following item was released by the Commission on February 14, 2023 and deleted from the list of items scheduled for consideration at the Thursday, February 16, 2023, Open Meeting. The item was previously listed in the Commission's Sunshine Notice on Thursday, February 9, 2023.

3 | MEDIA | Title: Restricted Adjudicatory Matter. Summary: The Commission will consider a restricted adjudicatory matter.

Federal Communications Commission.
Dated: February 14, 2023.
Marlene Dortch,
Secretary.

[FR Doc. 2023-03465 Filed 2-16-23; 8:45 am]

BILLING CODE 6712-01-P